NATIONAL AERONAUTICS AND SPACE ADMINISTRATION

14 CFR Part 1204

[NASA Document No: NASA-23-054; NASA Docket No: NASA-2023-0003]

RIN 2700-AE74

Delegations and Designations

AGENCY: National Aeronautics and Space Administration.

ACTION: Direct final rule.

SUMMARY: The National Aeronautics and Space Administration (NASA) is amending its delegations and designations rule to correct citations and titles throughout, to establish delegations of authority for Real Estate Contracting Officers, and to clarify regulatory text in specific sections.

DATES: This direct final rule is effective on June 17, 2024. Comments are due on or before May 16, 2024. If adverse comments are received, NASA will publish a timely withdrawal of the rule in the Federal Register.

ADDRESSES: Comments must be identified with RINs 2700-AE74 and may be sent to NASA via the Federal E-Rulemaking Portal: https://www.regulations.gov. Follow the online instructions for submitting comments. Please note that NASA will post all comments on the internet with changes, including any personal information provided.

FOR FURTHER INFORMATION CONTACT: Daniela Cruzado, 202-295-7589.

SUPPLEMENTARY INFORMATION:

Direct Final Rule and Significant Adverse Comments

NASA has determined that this rulemaking meets the criteria for a direct final rule because it makes changes to correct citations and titles throughout, to establish delegations of authority for Real Estate Contracting Officers, and to clarify regulatory text in specific sections. No opposition to the changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

Subpart 5 of part 1204, promulgated March 13, 1965 (30 FR 3378), established delegations and designations for NASA officials and other Government agencies acting on behalf of the Agency to carry out functions related to real estate and related matters, granting easements, leaseholds, permits, and licenses in real property, executing certificates of full faith and credit, and taking actions on liquidated damage. Sections 1204.501, 1204.503, and 1204.504 will be amended to correct citations and titles, and to clarify regulatory text in specific sections. Additionally, Sections 1204.503 and 1204.504 will be amended to establish delegation of authority for Real Estate Contracting Officers.

Statutory Authority

The National Aeronautics and Space Act (the Space Act), 51 U.S.C. 20113(a), authorizes the Administrator of NASA to make, promulgate, issue, rescind, and amend rules and regulations governing the manner of its operations and the exercise of the powers vested in it by law.

Regulatory Analysis

Executive Order (E.O.) 12866, Regulatory Planning and Review and E.O. 13563, Improving Regulation and Regulation Review

E.O.'s 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated as “not significant” under E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes one section from title 14 of the CFR and, therefore, does not have a significant economic impact on a substantial number of small entities.

Review Under the Paperwork Reduction Act

This direct final rule does not contain any information collection requirements subject to the Paperwork Reduction Act of 1995 (44 U.S.C. 3501 et seq.).

Review Under E.O. 13132

E.O. 13132, “Federalism,” 64 FR 43255 (August 4, 1999) requires regulations be reviewed for Federalism effects on the institutional interest of states and local governments and, if the effects are sufficiently substantial, preparation of the Federal assessment is required to assist senior policy makers. The amendments will not have any substantial direct effects on state and local governments within the meaning of the E.O. Therefore, no Federalism assessment is required.

List of Subjects in 14 CFR Part 1204

Administrative practice and procedure, Authority delegation (Government agencies), Federal buildings and facilities.

Accordingly, under the authority of the National Aeronautics and Space Act, as amended, 51 U.S.C. 20113, NASA amends 14 CFR part 1204 as follows:

PART 1204—ADMINISTRATIVE AUTHORITY AND POLICY

Subpart 5—Delegations and Designations

1. The authority citation for subpart 5 to part 1204 is revised to read as follows:

Authority: 51 U.S.C. 20113(a).

§ 1204.501 [Amended]

2. Amend § 1204.501 as follows:

a. In paragraph (a) introductory text, add the words “the Office of” before the word “Strategic” and remove the words “Integrated Asset Management” and add in their place the words “Facilities and Real Estate.”

b. In paragraph (a)(2)(i), remove the word “to” before the words “sign declarations of taking.”

c. In paragraph (a)(2)(ii), add the text “, in accordance with statutory authority” after the word “reimbursement.”

d. In paragraph (a)(2)(iv), add the words “in or over real property owned or” before the word “controlled.”

e. In paragraph (a)(2)(v):

i. Remove the phrase “NASA-controlled” and add in its place the phrase “NASA-owned or -controlled.”

ii. Remove the word “Comptroller” and add in its place the words “Office of the Chief Financial Officer.”

3. Revise § 1204.503 to read as follows:

§ 1204.503 Delegation of authority to grant easements.

(a) Scope. 40 U.S.C. 1314 authorizes executive agencies to grant, under certain conditions, the easements as the head of the agency determines will not be adverse to the interests of the United States and subject to the provisions as the head of the agency deems necessary to protect the interests of the United States.

(b) Delegation of authority. The Assistant Administrator for the Office of Strategic Infrastructure and the Director, Facilities and Real Estate Division, are delegated authority to take actions in connection with the granting of easements.

(c) Redelegation. (1) The Real Estate Branch Chief may, subject to the restrictions in paragraph (d) of this section, exercise the authority of the National Aeronautics and Space Act of 1958, as amended, and 40 U.S.C. 1314 to authorize or grant easements in, over, or upon real property of the United States owned and/or controlled by NASA upon compliance with statute including a determination that such authorization or grant will not be adverse to the interests of the United States.

(2) The Real Estate Branch Chief may redelegate this authority to the appropriate warranted Real Estate Contracting Officer, in accordance with the requirements set forth in NASA Procedural Requirements (NPR) 8800.15, Real Estate Management Program.

(d) Restrictions. Except as otherwise specifically provided, no such easement shall be authorized or granted under the authority stated in paragraph (c) of this section unless:

(1) The responsible Center Director has provided approval that such grant is appropriate.

(2) The Center Director provides certification to the appropriate Real Estate Contracting Officer:

(i) That the interest in real property to be conveyed is not required for a NASA program.

(ii) That the grantee's exercise of rights under the easement will not be adverse to the interests of the United States or interfere with NASA operations.

(3) Monetary or other benefit, including any interest in real property, is received by the government as consideration for the granting of the easement.

(4) The instrument granting the easement is on a form or template approved or directed to be used by the Real Estate Branch Chief, and provides at a minimum:

(i) For the termination of the easement, in whole or in part, and without cost to the Government, if there has been:

(A) A failure to comply with any term or condition of the easement;

(B) A nonuse of the easement for a consecutive two-year period for the purpose for which granted; or

(C) An abandonment of the easement.

(ii) That written notice of the termination shall be given to the grantee, or its successors or assigns, by the Assistant Administrator for the Office of Strategic Infrastructure or the Director, Facilities and Real Estate Division, and that termination shall be effective as of the date of the notice.

(iii) That restoration provisions are provided for in the agreement that protect the interests of the United States and ensure the grantee is responsible for removal of any and all improvements in or on NASA real property.

(iv) Such other reservations, exceptions, limitations, benefits, burdens, terms, or conditions as are set forth in the forms and templates for easements approved for NASA use by the Real Estate Branch Chief.

(e) Waivers. If, in connection with a proposed granting of an easement, the Real Estate Contracting Officer or Center Director determines that a waiver from any of the restrictions in paragraph (d) of this section is appropriate, authority for the waiver may be requested from the Assistant Administrator for the Office of Strategic Infrastructure or the Director, Facilities Real Estate Division.

(f) Services of the Corps of Engineers. In exercising the authority herein granted, the Real Estate Contracting Officer, under the applicable provisions of any cooperative agreement between NASA and the Corps of Engineers (in effect at that time), may:

(1) Utilize the services of the Corps of Engineers, U.S. Army.

(2) Delegate authority to the Corps of Engineers to execute, on behalf of NASA, grants of easements in real property, as authorized in this section, provided that the conditions set forth in paragraphs (d) and (e) of this section are complied with.

(g) Distribution of documents. One copy of each document granting an easement interest under this authority, including instruments executed by the Corps of Engineers, will be filed in the Central Depository for Real Property Documents at National Aeronautics and Space Administration, Office of Strategic Infrastructure, Facilities and Real Estate Division, Washington, DC 20546.

4. Revise § 1204.504 to read as follows:

§ 1204.504 Delegation of authority to grant leaseholds, permits, and licenses in real property.

(a) Delegation of authority. The National Aeronautics and Space Act, as amended, authorizes NASA to grant agreements for the use of NASA-owned and/or -controlled real property. This authority is delegated to the Assistant Administrator for the Office of Strategic Infrastructure and the Director, Facilities Real Estate Division.

(b) Definitions. The following definitions will apply:

(1) Real Property refers to land, buildings, structures (including relocatable structures), air space, utility systems, improvements, and appurtenances annexed to land referred to as real property assets. For purposes of NASA use, the term real property also includes related personal property, also known as collateral equipment.

(2) State means the States of the Union, the District of Columbia, the Commonwealth of Puerto Rico, and the possessions of the United States.

(3) Person includes any corporation, partnership, firm, association, trust, estate, or other entity.

(c) Redelegation. (1) The Real Estate Branch Chief may, subject to the restrictions in paragraph (d) of this section, grant a leasehold, permit, or license to any Person or organization, including other Government agencies, a State, or political subdivision or agency thereof. This authority may not be exercised with respect to real property which is proposed for use by a NASA exchange and subject to the provisions of NASA Policy Directive 9050.6, NASA Exchange and Morale Support Activities.

(2) The Real Estate Branch Chief may redelegate this authority to the appropriate warranted Real Estate Contracting Officer, in accordance with the requirements set forth in NPR 8800.15.

(d) Restrictions. Except as otherwise specifically provided, no leasehold, permit, or license shall be granted under the authority stated in paragraph (c) of this section unless:

(1) The responsible Center Director has provided approval that such leasehold, permit, or license is appropriate.

(2) The Center Director provides certification to the appropriate Real Estate Contracting Officer:

(i) That the interest or rights to be granted are not required for a NASA program.

(ii) That the interests or rights to be granted will not be adverse to the interests of the United States nor interfere with NASA operations.

(3) That, in the case of leaseholds fair market value monetary consideration is received by NASA.

(4) The instrument granting the leasehold, permit, or license in real property is on a form or template approved by or directed to be used by the Real Estate Branch Chief, and provides, at a minimum:

(i) For unilateral termination by NASA in the event of:

(A) Default by the grantee; or

(B) Abandonment of the property by the grantee; or

(C) Force majeure circumstances including a determination by Congress, the President, or the NASA Administrator that the interest of the national space program, the national defense, or the public welfare require the termination of the interest granted, with advance, written notice provided to the grantee.

(ii) A liability waiver, indemnification requirements, environmental requirements, and insurance provisions as needed to suitably protect the United States from damages arising from the grantee's use of NASA real property.

(iii) That restoration provisions are provided for in the agreement that protect the interests of the United States and ensure the grantee is responsible for removal of any and all improvements in or on NASA real property.

(iv) Such other reservations, exceptions, limitations, benefits, burdens, terms, or conditions as are set forth in the forms and templates for leaseholds, permits, and licenses in real property approved by and directed for use by the Real Estate Branch Chief.

(e) Waivers. If, in connection with a proposed grant, the Real Estate Contracting Officer or Center Director determines that a waiver from any of the restrictions set forth in paragraph (d) of this section is appropriate, a request may be submitted to the Assistant Administrator for the Office of Strategic Infrastructure or the Director, Facilities Real Estate Division.

(f) Distribution of documents. One copy of each document granting an interest in real property will be filed in the Central Depository for Real Property Documents at: National Aeronautics and Space Administration, Office of Strategic Infrastructure, Washington, DC 20546.

Nanette Smith,
Team Lead, NASA Directives and Regulations.

[FR Doc. 2024-07421 Filed 4-15-24; 8:45 am]

BILLING CODE 7510-13-P